DEPARTMENT OF THE INTERIOR

Fish and Wildlife Service

Final Comprehensive Conservation Plan and Environmental Assessment for the Minnesota Wetland Management Districts (WMDs), Big Stone, Detroit Lakes, Fergus Falls, Litchfield, Morris, and Windom

AGENCY: Fish and Wildlife Service, Interior.

ACTION: Notice of availability.

SUMMARY: The U.S. Fish and Wildlife Service (Service) announces that the final Comprehensive Conservation Plan (CCP) and Environmental Assessment (EA) is available for Big Stone, Detroit Lakes, Fergus Falls, Litchfield, Morris, and Windom WMDs. The CCPs were prepared pursuant to the National Wildlife Refuge System Administration Act of 1966, as amended by the National Wildlife Refuge System Improvement Act of 1997, and the National Environmental Policy Act of 1969, and we describe how the Service intends to manage these districts over the next 15 years.

DATES: Implementation of the CCPs will not begin sooner than 30 days following the publication of this Federal Register notice.

ADDRESSES: Copies of the CCPs are available on compact diskette or hard copy, and you may obtain a copy by writing the applicable WMD: Big Stone Wetland Management District, Rural Route 1, Box 25, Odessa, MN 56276-9706; Detroit Lakes Wetland Management District, 26624 North Tower Road, Detroit Lakes, MN 56501-7959; Fergus Falls Wetland Management District, 21932 State Highway 210, Fergus Falls, MN 56537-7627; Litchfield Wetland Management District, 22274-615th Avenue, Litchfield, MN 55355-2900; Morris Wetland Management District, 43875-230th Street, Morris, MN 56267-9735; or Windom Wetland Management District, 49663 County Road 17, Windom, MN 56101-3026. Copies of the CCP can also be accessed and downloaded at the following Web site address: http://www.midwest.fws.gov/planning/wmdplanning.htm.

SUPPLEMENTARY INFORMATION: The National Wildlife Refuge System Administration Act of 1966, as amended by the National Wildlife Refuge System Improvement Act of 1997 (16 U.S.C. 668dd-668ee et seq.) requires a CCP and the National Environmental Policy Act compliance (42 U.S.C. 4321-4370d). The purpose in developing CCPs is to provide district managers with a 15-year strategy for achieving district purposes and contribute toward the mission of the National Wildlife Refuge System, consistent with sound principles of fish and wildlife science, conservation, legal mandates, and Service policies. In addition to outlining broad management direction on conserving wildlife and their habitats, the CCPs identify wildlife-dependent recreational opportunities available to the public, including opportunities for hunting, fishing, wildlife observation and photography, and environmental education and interpretation. The CCPs will be reviewed and updated at least every 15 years.

The WMD Waterfowl Production Areas purposes are: “* * * as Waterfowl Production Areas” subject to “* * * all of the provisions of such Act [Migratory Bird Conservation Act] * * * except the inviolate sanctuary provisions * * *” and “ * * * for any other management purpose, for migratory birds.”

The Minnesota WMDs are part of a unique natural ecosystem and an equally unique legacy of human partnership. Six WMDs are located in western Minnesota: Big Stone WMD, Detroit Lakes WMD, Fergus Falls WMD, Litchfield WMD, Morris WMD, and Windom WMD. These WMDs used a joint process to prepare the CCPs, resulting in six separate CCPs.

Wetland Management Districts are unique collections of land that are not national wildlife refuges, but are managed as part of the National Wildlife Refuge System. A WMD is the Federal administrative unit that is charged with acquiring, overseeing and managing Waterfowl Production Areas (WPAs) and easements within a multi-county area. Waterfowl Production Areas are wetlands and surrounding upland grasslands purchased by the Service to provide nesting habitat for waterfowl. Several WPAs of anywhere from a few acres to a few hundred acres are scattered throughout a several-county area. Waterfowl Production Areas within the Minnesota WMDs average about 210 acres in size.

Wetland Management Districts exemplify how partnerships can succeed in preserving habitat. From the Duck Stamp Act of 1934 to the Wetland Loan Act of 1961 to the Small Wetland Acquisition Program of 1962, the Service, and hunters, environmentalists, and communities have worked together to preserve land and wildlife. Funding for acquisition of WPAs comes in large part from funds generated through the Duck Stamp Act, making duck hunters a key partner in preserving critical habitat within the prairie pothole region.

When the Service buys land for the WMDs, it is the result of negotiation with a willing seller as well as the State of Minnesota, the local county and the township. Working with counties, the Service has established a goal for acres of acquisition in each WMD, and each county within each WMD has agreed to that goal. Prior to final acquisition approval by the State of Minnesota (through the Land Exchange Board, which is headed by the Governor), each tract is discussed and reviewed in detail with the commissioners of the county where the tract is located. (There are 28 counties within the six-district planning area.) Township boards are also informed of these proposed acquisitions and invited to attend and participate in the meeting with the county commissioners. The meetings are open to the public.

Wetland Management Districts are managed differently than national wildlife refuges. Waterfowl Production Areas are assumed to be open to the public unless closed for a specific reason. In Minnesota, WPAs are open to the Service's Big Six priority public uses: hunting, fishing, wildlife observation and photography, and environmental education and interpretation.

Big Stone WMD—The WMD was established in 1996 to acquire and manage lands under the Small Wetlands Acquisition Program within Lincoln and Lyon counties. It currently includes 11 WPAs covering 2,343 acres of fee title lands, 15 habitat and/or wetland easements covering 1,547 acres.

Detroit Lakes WMD—The 5 county WMD currently manages 41,615 fee acres on 163 WPAs and 320 easements covering 13,300 acres.

Fergus Falls WMD—The 5 county WMD currently manages 215 WPAs totaling 43,417 acres and 1,136 easements covering 113,525 acres.

Litchfield WMD—The 7 county WMD was established in 1978 and today manages 148 WPAs covering more than 33,000 acres of fee title lands, 453 easements covering 36,154 acres.

Morris WMD—The 8 county WMD, originally established in 1964 as the Benson WMD, manages 246 WPAs totaling 51,208 acres in fee title ownership and 646 easements encompassing 23,182 acres.

Windom WMD—The 12 county WMD was established in 1990. It includes 59 WPAs covering 12,669 acres of fee title lands, 51 easements covering over 1,847 acres.

Three management alternatives were considered: (1) Acquire no additional land and maintain management on current land; (2) Increase land holdings to goal acres and maintain current management practices (current management); and (3) Increase land holdings to goal acres and expand management for waterfowl, other trust species and the public (preferred alternative).

The CCP represents the preferred alternative and describes a future in which the Service continues to acquire land to reach the goal acres agreed to by the State of Minnesota and each County within the District. The WMDs will strive to preserve and maintain diversity and increase the abundance of waterfowl and other key wildlife species in the Northern Tallgrass Prairie Ecosystem. They will restore wetlands and prairie as habitat for migratory waterfowl. Our intent will be to increase the block size of WPAs from an average of 210 acres to benefit waterfowl species as well as grassland birds. Working with the Minnesota Department of Natural Resources, we will reintroduce native species on WPAs. Coordinated, standardized, cost-effective and defensible methods will be implemented for gathering and analyzing habitat and population data. Limited continued use of food plots and feeder cribs to support resident wildlife, notably white-tailed deer and pheasants will be allowed. The WMDs will work with other WMDs in Minnesota as well as neighboring states (Iowa, Wisconsin, South Dakota and North Dakota) to develop more consistency in policies for habitat, public use and resource protection. It is our goal to promote a greater understanding and awareness of the WMDs' programs, goals and objectives within the public, partnerships, tribes and government agencies.

Dated: May 6, 2003.
Gerry Jackson,
Acting Regional Director.

Editorial note: This document was received at the Office of the Federal Register on November 7, 2003.

[FR Doc. 03-28430 Filed 11-12-03; 8:45 am]

BILLING CODE 4310-55-P